ENVIRONMENTAL PROTECTION AGENCY

[EPA-HQ-OPP-2006-0936; FRL-8111-8]

Notice of Filing of Pesticide Petitions for Residues of Pesticide Chemicals in or on Various Commodities

AGENCY: Environmental Protection Agency (EPA).

ACTION: Notice.

SUMMARY: This notice announces the initial filing of pesticide petitions proposing the establishment or amendment of regulations for residues of pesticide chemicals in or on various commodities.

DATES: Comments must be received on or before March 9, 2007.

ADDRESSES: Submit your comments, identified by docket identification (ID) number and pesticide petition number (PP), by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the assigned docket ID number for the pesticide petition of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number assigned to the pesticide petition of interest.

PP Number | Docket ID Number
PP 1F6263 | EPA-HQ-OPP-2006-0203
PP 5F4505 | EPA-HQ-OPP-2006-0203
PP 5F6918 | EPA-HQ-OPP-2006-0203
PP 6F4791 | EPA-HQ-OPP-2006-0203
PP 6F7025 | EPA-HQ-OPP-2006-0323
PP 6F7059 | EPA-HQ-OPP-2006-1026
PP 6E7140 | EPA-HQ-OPP-2007-0004

III. What Action is the Agency Taking?

EPA is printing a summary of each pesticide petition received under section 408 of the Federal Food, Drug, and Cosmetic Act (FFDCA), 21 U.S.C. 346a, proposing the establishment or amendment of regulations in 40 CFR part 180 for residues of pesticide chemicals in or on various food commodities. EPA has determined that these pesticide petitions contain data or information regarding the elements set forth in FFDCA section 408(d)(2); however, EPA has not fully evaluated the sufficiency of the submitted data at this time or whether the data support granting of these pesticide petitions. Additional data may be needed before EPA rules on these pesticide petitions.

Pursuant to 40 CFR 180.7(f), a summary of the petitions included in this notice, prepared by the petitioner along with a description of the analytical method available for the detection and measurement of the pesticide chemical residues is available on-line at http://www.regulations.gov.

A. Amendment to Existing Tolerances

1. PP 1F6263. (Docket ID number EPA-HQ-OPP-2006-00203). Acetochlor Registration Partnership (ARP), c/o Monsanto Company, 1300 “I” St., NW., Suite 450 East, Washington, DC 20005, proposes to amend the tolerances in 40 CFR 180.470(a) for residues of the herbicide acetochlor (2-chloro-2'-methyl-6-ethyl-N-ethoxymethylacetanilide) and its metabolites containing the ethyl methyl aniline (EMA) moiety and the hydroxyethyl methyl-aniline (HEMA) moiety, and expressed as acetochlor equivalents in or on the food commodities corn, pop, grain at 0.05 parts per million (ppm) and corn, pop, stover at 1.5 ppm.

In addition, ARP proposes to amend the tolerances in 40 CFR 180.470(d) for residues of the herbicide acetochlor (2-chloro-2'-methyl-6-ethyl-N-ethoxymethylacetanilide) and its metabolites containing the EMA moiety and the HEMA moiety, and expressed as acetochlor equivalents in or on the food commodities beet, sugar, root and tops/pea and bean (except soybean), dried and shelled (subgroup 6C)/potato/and sunflower, seed at 0.05 ppm; grain, cereal (except rice) (group 15) at 0.05 ppm; grain, cereal (except rice), forage/fodder/straw (group 16), forage at 0.5 ppm; grain, cereal (except rice), forage/fodder/straw (group 16), hay at 2.0 ppm; grain, cereal (except rice), forage/fodder/straw (group 16), stover at 0.1 ppm; grain, cereal (except rice), forage/fodder/straw (group 16), straw at 0.3 ppm.

Acetochlor and its metabolites are hydrolyzed to either EMA or HEMA, which are determined by high performance liquid chromatography (HPLC)/oxidative coulometric electrochemical detector (OCED) and expressed as acetochlor equivalents. The limit of quantitation (LOQ) for this method is 0.02 ppm for each analyte. Contact: Vickie Walters, telephone number: (703) 305-5704, e-mail address: walters.vickie@epa.gov.

2. PP 5F4505. (Docket ID number EPA-HQ-OPP-2006-0203). Acetochlor Registration Partnership (ARP), c/o Monsanto Company, 1300 “I” St., NW., Suite 450 East, Washington, DC 20005, proposes to amend the tolerance in 40 CFR 180.470(a) for residues of the herbicide acetochlor (2-chloro-2'-methyl-6-ethyl-N-ethoxymethylacetanilide) and its metabolites containing the EMA moiety and the HEMA moiety, and expressed as acetochlor equivalents in or on the food commodity corn, field, forage at 3.0 ppm. Acetochlor and its metabolites are hydrolyzed to either EMA or HEMA, which are determined by HPLC/OCED and expressed as acetochlor equivalents. The LOQ for this method is 0.02 ppm for each analyte. Contact: Vickie Walters, telephone number: (703) 305-5704, e-mail address: walters.vickie@epa.gov.

3. PP 5F6918. (Docket ID number EPA-HQ-OPP-2006-00203). Monsanto Company, 1300 “I” St., NW., Suite 450 East, Washington, DC 20005, proposes to amend the tolerances in 40 CFR 180.470(a) for residues of the herbicide acetochlor (2-chloro-2'-methyl-6-ethyl-N-ethoxymethylacetanilide) and its metabolites containing the EMA moiety and the HEMA moiety, and expressed as acetochlor equivalents in or on the food commodities sorghum, forage at 1.0 ppm; sorghum, grain at 0.05 ppm; and sorghum, grain, stover at 1.5 ppm. Acetochlor and its metabolites are hydrolyzed to either EMA or HEMA, which are determined by HPLC/OCED and expressed as acetochlor equivalents. The LOQ for this method is 0.02 ppm for each analyte. Contact: Vickie Walters, telephone number: (703) 305-5704, e-mail address: walters.vickie@epa.gov.

4. PP 6F4791. (Docket ID number EPA-HQ-OPP-2006-00203). Acetochlor Registration Partnership (ARP), c/o Monsanto Company, 1300 “I” St., NW., Suite 450 East, Washington, DC 20005, proposes to amend the tolerances in 40 CFR 180.470(a) for residues of the herbicide acetochlor (2-chloro-2'-methyl-6-ethyl-N-ethoxymethylacetanilide) and its metabolites containing the EMA moiety and the HEMA moiety, and expressed as acetochlor equivalents in or on the food commodities corn, sweet, fodder and forage at 1.5 ppm; and corn, sweet, kernels plus cob with husks removed at 0.05 ppm.

In addition, ARP proposes to amend the tolerances in 40 CFR 180.470(d) for residues of the herbicide acetochlor (2-chloro-2'-methyl-6-ethyl-N-ethoxymethylacetanilide) and its metabolites containing the EMA moiety and the HEMA moiety, and expressed as acetochlor equivalents in or on the food commodities non-grass animal feeds (group 18) forage at 1.3 ppm and non-grass animal feeds (group 18), hay at 3.5 ppm.

Acetochlor and its metabolites are hydrolyzed to either EMA or HEMA, which are determined by HPLC/OCED and expressed as acetochlor equivalents. The LOQ for this method is 0.02 ppm for each analyte. Contact: Vickie Walters, telephone number: (703) 305-5704, e-mail address: walters.vickie@epa.gov.

5. PP 6F7025. (Docket ID number EPA-HQ-OPP-2006-00323). Dow AgroSciences LLC, 9330 Zionsville Rd., Indianapolis, IN 46268, proposes to amend the tolerances in 40 CFR 180.364(a) by adding glyphosate dimethylammonium salt or dimethalamine (DMA) salt of glyphosate (n-phosphonomethyl)glycine resulting from the application of glyphosate and the isopropylamine salt of glyphosate, ethanolamine salt of glyphosate, and the ammonium potassium salt of glyphosate. Adequate enforcement methods include gas liquid chromatography (GLC), HPLC, and gas chromatography/mass spectrometry (GS/MS). The limit of detection is 0.05 ppm. Contact: Vickie Walters, telephone number: (703) 305-5704, e-mail address: walters.vickie@epa.gov.

B. New Tolerances

1. PP 6F7059. (Docket ID number EPA-HQ-OPP-2006-1026). Bayer CropScience LLC, 2 T.W. Alexander Dr., Research Triangle Park, NC 27709, proposes to establish a tolerance for residues of the herbicide pyrasulfotole (AE 0317309) (5-hydroxy-1,3-dimethyl-1H-pyrazol-4-yl)[2-(methylsulfonyl)-4-(trifluoromethyl)phenyl] methanone and its metabolite (5-hydroxy-3-methyl-1H-pyrazol-4-yl)[2-(methylsulfonyl)-4-(trifluoromethyl)phenyl] methanone in or on food commodities barley/oat/rye/triticale/wheat, grain at 0.07 ppm; barley/oat/rye/wheat, straw and oat/rye/wheat, forage at 0.25 ppm; barley/oat/wheat, hay at 0.8 ppm; wheat, aspirated grain fractions at 1.4 ppm; and pyrasulfotole (AE 0317309) in or on cattle/goat/hog/horse/sheep, meat and fat at 0.01 ppm; cattle/goat/hog/horse/sheep, meat byproducts at 0.3 ppm; and milk at 0.005 ppm. The analytical method is a liquid chromatography/mass spectrometry/mass spectrometry (LC/MS/MS) method which quantifies AE 0317309 and its metabolite with a LOQ of 0.01 milligram/kilogram (mg/kg). Contact: Tracy White, telephone number: (703) 308-0042, e-mail address: white.tracy@epa.gov.

2. PP 6E7140. (Docket ID number EPA-HQ-OPP-2007-0004). Interregional Research Project Number 4 (IR7ndash;4), 500 College Rd. East, Suite 201 W, Princeton, NJ 05840, proposes to establish tolerances for residues of the insecticide deltamethrin ((1R,3R)-3-(2,2-dibromovinyl)-2,2-dimethylcyclopropanecarboxylic acid (S)-alpha-cyano-3-phenoxybenzyl ester) and its major metabolites, trans deltamethrin ((S)-alpha-cyano-m-phenoxybenzyl-(1R,3R)-3-(2,2-dibromovinyl)-2,2-dimethylcyclopropanecarboxylate) and alpha-R-deltamethrin ((R)-alpha-cyano-m-phenoxybenzyl-(1R,3R)-3-(2,2-dibromovinyl)-2,2- dimethylcyclopropanecarboxylate) in or on food commodities flax, seed at 0.1 ppm; and flax, meal at 0.3 ppm. The independently validated analytical methods are based on GLC equipped with an electron capture detector (ECD) and a DB-1 (or equivalent) capillary column, and are used for the determination of cis-deltamethrin, trans-deltamethrin, and alpha-R-deltamethrin in various raw agricultural, animal derived, and processed commodities. Contact: Shaja R. Brothers, telephone number: (703) 308-3194, e-mail address: brothers.shaja@epa.gov.

List of Subjects

Environmental protection, Agricultural commodities, Feed additives, Food additives, Pesticides and pests, Reporting and recordkeeping requirements.

Dated: January 29, 2007.
Lois Rossi,
Director, Registration Division, Office of Pesticide Programs.

[FR Doc. E7-2002 Filed 2-6-07; 8:45 am]

BILLING CODE 6560-50-S